OFFICE OF PERSONNEL MANAGEMENT

[OMB Control No. 3206-0032; RI 25-14 and RI 25-14A]

Submission for OMB Review; Request for Comments on a Revised Information Collection

AGENCY: Office of Personnel Management.

ACTION: Notice.

SUMMARY: In accordance with the Paperwork Reduction Act of 1995 (Pub. L. 104-13, May 22, 1995 and 5 CFR 1320), this notice announces that the Office of Personnel Management (OPM) has submitted to the Office of Management and Budget (OMB) a request for comments on a revised information collection. “Self-Certification of Full-Time School Attendance for the School Year” (OMB Control No. 3206-0032; RI 25-14), is used to survey survivor annuitants who are between the ages of 18 and 22 to determine if they meet the requirements of Section 8341(a)(4)(C), and Section 8441, title 5, U.S. Code, to receive benefits as a student. “Information and Instructions for Completing the Self-Certification of Full-Time School Attendance” (OMB Control No. 3206-0032; RI 25-14A), provides instructions for completing the Self-Certification of Full-Time School Attendance for the School Year survey form.

We estimate 14,000 RI 25-14s will be processed annually. We estimate it takes approximately 12 minutes to complete the form. The estimated annual burden is 2,800 hours.

For copies of this proposal, contact Cyrus S. Benson on (202) 606-4808, FAX (202) 606-0910 or E-mail to Cyrus.Benson@opm.gov. Please include a mailing address with your request.

DATES: Comments on this proposal should be received within 30 calendar days from the date of this publication.

ADDRESSES: Send or deliver comments to—

Linda Bradford (Acting), Deputy Associate Director, Retirement Operations, Retirement Services, U.S. Office of Personnel Management, 1900 E Street, NW., Room 3305, Washington, DC 20415-3500; and

OPM Desk Officer, Office of Information & Regulatory Affairs, Office of Management and Budget, New Executive Office Building, 725 17th Street, NW., Room 10235, Washington, DC 20503.

For information regarding administrative coordination contact: Cyrus S. Benson, Team Leader, Publications Team, RS/RM/Administrative Services, U.S. Office of Personnel Management, 1900 E Street, NW., Room 4332, Washington, DC 20415. (202) 606-4808.

John Berry,
Director, U.S. Office of Personnel Management.

[FR Doc. 2011-3839 Filed 2-18-11; 8:45 am]

BILLING CODE 6325-38-P